Executive Order 14238 of March 14, 2025

Continuing the Reduction of the Federal Bureaucracy

By the authority vested in me as President by the Constitution and the laws of the United States of America, it is hereby ordered:

Section 1. Purpose. This order continues the reduction in the elements of the Federal bureaucracy that the President has determined are unnecessary.

Sec. 2. Reducing the Scope of the Federal Bureaucracy.

(a) Except as provided in subsection (b) of this section, the non-statutory components and functions of the following governmental entities shall be eliminated to the maximum extent consistent with applicable law, and such entities shall reduce the performance of their statutory functions and associated personnel to the minimum presence and function required by law:

(i) the Federal Mediation and Conciliation Service;

(ii) the United States Agency for Global Media;

(iii) the Woodrow Wilson International Center for Scholars in the Smithsonian Institution;

(iv) the Institute of Museum and Library Services;

(v) the United States Interagency Council on Homelessness;

(vi) the Community Development Financial Institutions Fund; and

(vii) the Minority Business Development Agency.

(b) Within 7 days of the date of this order, the head of each governmental entity listed in subsection (a) of this section shall submit a report to the Director of the Office of Management and Budget confirming full compliance with this order and explaining which components or functions of the governmental entity, if any, are statutorily required and to what extent.

(c) In reviewing budget requests submitted by the governmental entities listed in subsection (a) of this section, the Director of the Office of Management and Budget or the head of any executive department or agency charged with reviewing grant requests by such entities shall, to the extent consistent with applicable law and except insofar as necessary to effectuate an expected termination, reject funding requests for such governmental entities to the extent they are inconsistent with this order.

Sec. 3. General Provisions. (a) Nothing in this order shall be construed to impair or otherwise affect:

(i) the authority granted by law to an executive department, agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

March 14, 2025.

[FR Doc. 2025-04868

Filed 3-19-25; 8:45 am]

Billing code 3395-F4-P